DEPARTMENT OF AGRICULTURE

Forest Service

Stanislaus National Forest, CA; Larson Reforestation and Fuels Reduction Project

AGENCY: Forest Service, USDA.

ACTION: Notice of intent to prepare an environmental impact statement.

SUMMARY: The Forest Service will prepare an environmental impact statement to restore, reforest, and reduce fuels within the 13,263 acre Larson project area that was burned in the Stanislaus Complex Fire of 1987. The Larson project area is located in Mariposa County, California, on Stanislaus National Forest, Groveland Ranger District. The project area is located three miles south of Highway 120, two miles north of the Merced River Canyon, and is bounded by Pilot Peak Lookout on the west and Yosemite National Park on the east. The legal description is: Township 2 South, Range 18 East, Sections 13, 24, 25, 36; Township 2 South, Range 19 East, Sections 15-18, 19-22, 26-30, 31-35; Township 3 South, Range 19 East, Sections 2-6, 9-10, MDM.

DATES: Comments concerning the scope of the analysis must be received by January 15, 2003. The draft environmental impact statement is expected September 2003 and the final environmental impact statement is expected April 2004.

ADDRESSES: Send written comments to John R. Swanson, District Ranger, Stanislaus National Forest, Groveland Ranger District, 24545 Highway 120, Groveland, CA 95321 or fax them to (209) 962-7412.

FOR FURTHER INFORMATION CONTACT: Dan Roskopf, Silviculture Forester, Stanislaus National Forest, Groveland Ranger District, 24545 Highway 120, Groveland, CA 95321, phone (209) 962-7825.

SUPPLEMENTARY INFORMATION: The proposed action is being undertaken to comply with the direction contained in the National Forest Management Act (1976) Sec. 4.(d)(1), stating that “it is the policy of Congress that all forested lands shall be maintained in appropriate forest cover with species of trees, degree of stocking, rate of growth, and conditions of stands designed to secure the maximum benefits of multiple use sustained yield management in accordance with the land management plans”. In addition, this environmental impact statement (EIS) will tier to the Stanislaus National Forest Land and Resource Management Plan and EIS of 1991 as amended.

Purpose and Need for Action

The Larson Fire (part of the Stanislaus Complex Fire of 1987) burned over 15,000 acres of forest and non-forest lands within the Larson project area. The fire burned in a mosaic pattern of moderate and high intensities. Significant regeneration of conifer trees following a wildfire and the associated benefits of a forested ecosystem has not occurred. Relying on natural regeneration and succession to reforest an area would take many decades. By restoring and reforesting the area, the associated benefits of recreation, timber, soil quality, visual quality, water quality, and wildlife habitat would recover to pre-fire levels at an accelerated rate.

Proposed Action

The proposed action would consist of combinations of site preparation (4,300 acres), reforestation (4,500 acres), release (4,800 acres), precommercial thinning (750 acres), prescribed burning (4,800), and defensible fuel profile zone construction (150 acres) treatments. Site preparation treatments would include mechanical, manual, and chemical methods. Specific treatments would include shredding, tractor piling, grapple piling, crushing, felling, hand herbicide applications (glyphosate or triclopyr), and aerial herbicide (glyphosate) applications. Reforestation treatment would include planting and re-planting if needed. Release treatments would include hand herbicide (glyphosate or triclopyr) application and a second hand herbicide (glyphosate or triclopyr) application if needed. Precommercial thinning treatments would include shredding, hand felling and piling, and hand felling with lopping and scattering of slash. Prescribed burning treatments would include broadcast, underburn, and pile burning. Defensible fuel profile zone construction would include tractor piling and shredding.

Possible Alternatives

A range of reasonable alternatives will be considered as long as they meet the purpose and need of the proposed action, meet the project objectives of the proposed action, and are consistent with the Forest and Resource Management Plan. A “no action” alternative will also be considered.

Responsible Official

The Responsible Official is Glenn Gottschall, Acting Forest Supervisor, Stanislaus National Forest, Supervisor's Office, 19777 Greenley Road, Sonora, CA 95370.

Nature of Decision To Be Made

The decision to be made is how to restore and reforest the land that was burned in the Stanislaus Complex Fire of 1987 to meet a variety of resource needs (i.e., recreation, timber, watershed, wildlife). The Forest Supervisor may select one of the proposed alternatives for reforesting the burn area, modify one of the proposed alternatives by adding additional management requirements or mitigation measures, or defer reforestation treatments of the burned area.

Scoping Process

The Larson Reforestation and Fuels Reduction Project encouraged public participation through notification in the Stanislaus National Forest Schedule of Proposed Actions (SOPA), a publication mailed to over 500 governmental agencies, organizations, groups, and interested individuals. In addition, the project is listed on the Stanislaus National Forest SOPA web site (http;://www.r5.fs.fed.us/stanislaus/planning/sopa/index.htm). Furthermore, a preliminary scoping letter was mailed out to various individuals, organizations and government agencies in September of 1997 and August of 1998 requesting public comments. This project will also be listed in the Federal Register.

Preliminary Issues

Preliminary concerns include the effects of mechanical, chemical, and prescribed burning treatments on air quality, soil quality, water quality, and threatened and endangered species.

Permits or Licenses Required

A county burning permit will be required for prescribed burning operations. A California Pesticide Applicators License will be required for herbicide operations.

Comment Requested

This notice of intent initiates the scoping process which guides the development of the environmental impact statement. The Forest Service will be seeking information, comments, and assistance from Federal, State, and local agencies, and other individuals or organizations that may be interested in, or affected by, the proposed action. Scoping comments will be used to refine the proposed action; develop management requirements, mitigation measures, or alternatives; and identify potential issues and environmental effects of the proposal and the alternatives. This input will be used in the preparation of the draft environmental impact statement (DEIS).

Early Notice of Importance of Public Participation in Subsequent Environmental Review: A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: November 26, 2002.
Glenn J. Gottschall,
Acting Forest Supervisor, Stanislaus National Forest.

[FR Doc. 02-31025 Filed 12-6-02; 8:45 am]

BILLING CODE 3410-11-M